FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011931-004.

Title: CMA CGM/Marfret Vessel Sharing Agreement.

Parties: CMA CGM S.A., CMA CGM (UK) Limited, and Compagnie Maritime Marfret S.A.

Filing Party: Draughn B. Arbona, Esq.; Senior Counsel; CMA CGM (America), LLC. 5701 Lake Wright Drive, Norfolk, VA 23502-1868.

Synopsis: The amendment would increase the frequency of service from fortnightly to weekly, and increase the number of vessels in the service.

Agreement No.: 012137-001.

Title: NYK-Hanjin Shipping Slot Exchange Agreement.

Parties: Nippon Yusen Kaisha, and Hanjin Shipping Co. Ltd.

Filing Parties: Wayne R. Rohde, Esq.; Cozen O'Connor; 1627 I Street NW.; Suite 1100; Washington, DC 20006-4007.

Synopsis: The amendment deletes Hapag-Lloyd as a party to the agreement, changes the name of the agreement to reflect the change in membership, and restates the agreement. The amendment also revises the geographic scope, the amount of space being exchanged, the duration of the agreement, and deletes obsolete language from the agreement.

Agreement No.: 012215.

Title: LGL/Inarme Cooperative Working Agreement.

Parties: Liberty Global Logistics LLC and Industria Armamento Meridionale S.p.A. (Inarme).

Filing Party: Brooke F. Shapiro; Winston & Strawn LLP; 200 Park Avenue; New York, NY 10166.

Synopsis: The agreement authorizes LGL and Inarme to cooperate and exchange space with each other in the trade between the U.S. East and Gulf Coasts on the one hand, and the Caribbean, South America, Central America, Mediterranean, and Middle East on the other hand.

Dated: August 9, 2013.
By Order of the Federal Maritime Commission.
Karen V. Gregory,
Secretary.

[FR Doc. 2013-19766 Filed 8-13-13; 8:45 am]

BILLING CODE P